DEPARTMENT OF TRANSPORTATION

Federal Aviation Administration

14 CFR Part 39

[Docket No. 2002-SW-27-AD; Amendment 39-13214; AD 2003-13-13]

RIN 2120-AA64

Airworthiness Directives; Bell Helicopter Textron Canada Model 222, 222B, and 222U Helicopters

AGENCY: Federal Aviation Administration, DOT.

ACTION: Final rule.

SUMMARY: This amendment adopts a new airworthiness directive (AD) for the specified Bell Helicopter Textron Canada (Bell) model helicopters that requires a one-time inspection of the adjustable stop screws of the magnetic brake assembly; repairing, as appropriate, certain mechanical damage to the cyclic and collective flight control magnetic brake arm assembly (arm assembly), if necessary; and installing the stop screw with the proper adhesive, adjusting the arm assembly travel, and applying slippage marks. This amendment is prompted by reports that the magnetic brake adjustable screws have backed out, which limited travel of the arm assembly. The actions specified by this AD are intended to detect loose adjustable stop screws that could result in limiting the travel of the cyclic and collective arm assembly, and subsequent loss of control of the helicopter.

DATES: Effective August 12, 2003.

The incorporation by reference of certain publications listed in the regulations is approved by the Director of the Federal Register as of August 12, 2003.

ADDRESSES: The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., Suite 700, Washington, DC.

FOR FURTHER INFORMATION CONTACT: Charles Harrison, Aviation Safety Engineer, FAA, Rotorcraft Directorate, Safety Management Group, Fort Worth, Texas 76193-0110, telephone (817) 222-5128, fax (817) 222-5961.

SUPPLEMENTARY INFORMATION: A proposal to amend 14 CFR part 39 to include an AD for Bell Model 222, 222B, and 222U helicopters was published in the Federal Register on February 7, 2003 (68 FR 6383). That action proposed to require inspecting the adjustable stop screws of the magnetic brake assembly to ensure they are installed correctly; repairing the arm assembly, if necessary; installing the stop screw with the proper adhesive; adjusting the arm assembly travel; and applying slippage marks.

Transport Canada, the airworthiness authority for Canada, notified the FAA that an unsafe condition may exist on Bell Model 222, 222B, and 222U helicopters with Instrument Flight Rule (IFR) kits, part number (P/N) 222-706-013, installed, and all delivered spare magnetic brakes, P/N 222-706-013, manufactured by Memcor Truohm, Inc., under P/N MP 498-3. Transport Canada advises that the stop screws, P/N MS51959-3, of the magnetic brake, P/N 204-001-376-003 (Memcor Truohm P/N MP 498-3), were installed without the proper adhesive.

Bell has issued Bell Helicopter Textron Alert Service Bulletin (ASB) No. 222-01-87, for Model 222 and 222B helicopters, and ASB No. 222U-01-58, for Model 222U helicopters, both dated January 19, 2001. Both ASB's specify a one-time inspection of the magnetic brake adjustable stop screw, P/N M551959-3; repairing any arm assembly mechanical damage created by the screws; and installing the stop screw with the proper adhesive and adjusting the arm assembly shaft travel. Transport Canada classified these ASB's as mandatory and issued AD No. CF-2002-17, dated March 4, 2002, to ensure the continued airworthiness of these helicopters in Canada.

Interested persons have been afforded an opportunity to participate in the making of this amendment. No comments were received on the proposal or the FAA's determination of the cost to the public. The FAA has determined that air safety and the public interest require the adoption of the rule as proposed.

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

The FAA estimates that 92 helicopters of U.S. registry will be affected by this AD, that it will take approximately 3 work hours per helicopter to accomplish the required actions, and that the average labor rate is $60 per work hour. Required parts will cost approximately $3,785. Based on these figures, the total cost impact of the AD on U.S. operators is estimated to be $364,780, assuming all parts are replaced.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-13-13 Bell Helicopter Textron Canada: Amendment 39-13214. Docket No. 2002-SW-27-AD.

Applicability: Model 222, 222B, and 222U helicopters, with a magnetic brake, part number (P/N) 204-001-376-105 or -107, installed, that was manufactured by Memcor Truohm, Inc. as P/N MP498-105 or -107, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 100 hours time in service and before installation of any affected magnetic brake, unless accomplished previously.

To detect loose adjustable stop screws that could result in limiting the travel of the cyclic and collective arm assembly, and subsequent loss of control of the helicopter:

(a) Inspect and, if necessary, repair, adjust, and apply slippage marks to the magnetic brake assembly in accordance with the Accomplishment Instructions, paragraphs 5. through 11. in Bell Helicopter Textron Alert Service Bulletin (ASB) No. 222-01-87, applicable to Model 222 and 222B helicopters, or ASB No. 222U-01-58, applicable to Model 222U helicopters, both dated January 19, 2001, except if damage to the arm assembly exceeds 0.030 inch (0.762 mm), replace the magnetic brake assembly with an airworthy magnetic brake assembly. Contacting the manufacturer is not required.

(b) An alternative method of compliance or adjustment of the compliance time that provides an acceptable level of safety may be used if approved by the Manager, Safety Management Group, Rotorcraft Directorate, FAA. Operators shall submit their requests through an FAA Principal Maintenance Inspector, who may concur or comment and then send it to the Manager, Safety Management Group.

Note 2: Information concerning the existence of approved alternative methods of compliance with this AD, if any, may be obtained from the Safety Management Group.

(c) Special flight permits may be issued in accordance with 14 CFR 21.197 and 21.199 to operate the helicopter to a location where the requirements of this AD can be accomplished.

(d) The actions referenced in paragraph (a) of this AD shall be done in accordance with Bell Helicopter Textron Alert Service Bulletin (ASB) No. 222-01-87, applicable to Model 222 and 222B helicopters, or ASB No. 222U-01-58, applicable to Model 222U helicopters, both dated January 19, 2001. This incorporation by reference was approved by the Director of the Federal Register in accordance with 5 U.S.C. 552(a) and 1 CFR part 51. Copies may be obtained from Bell Helicopter Textron Canada, 12,800 Rue de l'Avenir, Mirabel, Quebec J7J1R4. Copies may be inspected at the FAA, Office of the Regional Counsel, Southwest Region, 2601 Meacham Blvd., Room 663, Fort Worth, Texas; or at the Office of the Federal Register, 800 North Capitol Street, NW., suite 700, Washington, DC.

(e) This amendment becomes effective on August 12, 2003.

Note 3: The subject of this AD is addressed in Transport Canada (Canada) AD CF-2002-17, dated March 4, 2002.

Issued in Fort Worth, Texas, on June 20, 2003.
David A. Downey,
Manager, Rotorcraft Directorate, Aircraft Certification Service.

[FR Doc. 03-16688 Filed 7-7-03; 8:45 am]

BILLING CODE 4910-13-P